DEPARTMENT OF COMMERCE

Foreign-Trade Zones Board

[Order No. 1633]

Grant of Authority; Establishment of a Foreign-Trade Zone, Lansing, MI

Pursuant to its authority under the Foreign-Trade Zones Act of June 18, 1934, as amended (19 U.S.C. 81a-81u), the Foreign-Trade Zones Board (the Board) adopts the following Order:

Whereas, the Foreign-Trade Zones (FTZ) Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection (CBP) ports of entry;

Whereas, the Capital Region Airport Authority (the Grantee) has made application to the Board (FTZ Docket 52-2008, filed 10/1/08), requesting the establishment of a foreign-trade zone in Lansing, Michigan, at the Capital Region International Airport, which was designated as a CBP user fee port facility on January 22, 2008;

Whereas, notice inviting public comment has been given in the Federal Register (73 FR 58930, 10/8/08), and the application has been processed pursuant to the FTZ Act and the Board's regulations; and,

Whereas, the Board adopts the findings and recommendations of the examiner's report, and finds that the requirements of the FTZ Act and Board's regulations are satisfied, and that approval of the application is in the public interest;

Now, therefore, the Board hereby grants to the Grantee the privilege of establishing a foreign-trade zone, designated on the records of the Board as Foreign-Trade Zone No. 275, at the site described in the application, and subject to the FTZ Act and the Board's regulations, including section 400.28.

Signed at Washington, DC, this 12th day of August 2009.
Foreign-Trade Zones Board.
Gary Locke,
Secretary of Commerce, Chairman and Executive Officer.

[FR Doc. E9-20990 Filed 8-28-09; 8:45 am]

BILLING CODE P